FEDERAL RESERVE SYSTEM

Notice of Proposals To Engage in or To Acquire Companies Engaged in Permissible Nonbanking Activities; Correction

This notice corrects a notice (FR Doc. 2014-06073) published on page 15343 of the issue for Wednesday, March 19, 2014.

Under the Federal Reserve Bank of Minneapolis heading, the entry for Gapstow Capital Partners, L.P.; CJA Private Equity Financial Restructuring Master Fund I, L.P.; CJA Private Equity Financial Restructuring Fund I, Ltd., and its investors; CJA Private Equity Financial Restructuring GP I, Ltd.; Christopher J. Acito & Associates GP, LLC; Christopher J. Acito; and Jack T. Thompson; all of New York, New York; and Timothy S.F. Jackson, Newtown, Connecticut is revised to read as follows:

A. Federal Reserve Bank of San Francisco (Gerald C. Tsai, Director, Applications and Enforcement) 101 Market Street, San Francisco, California 94105-1579:

1. Gapstow Capital Partners, L.P.; Gapstow Financial Growth Capital GP I LLC; Gapstow Financial Growth Capital Fund I LP; CJA Private Equity Financial Restructuring Master Fund I, L.P.; CJA Private Equity Financial Restructuring Fund I, Ltd., CJA Private Equity Financial Restructuring GP I, Ltd.; Christopher J. Acito & Associates GP, LLC; Christopher J. Acito; and Jack T. Thompson; all of New York, New York; and Timothy S.F. Jackson, Newtown, Connecticut; to acquire voting shares of Golden Pacific Bancorp, Sacramento, California, and thereby indirectly acquire control of Golden Pacific Bank, N.A., Marysville, California.

Comments on this application must be received by April 3, 2014.

Board of Governors of the Federal Reserve System, March 19, 2014.
Michael J. Lewandowski,
Associate Secretary of the Board.

[FR Doc. 2014-06436 Filed 3-24-14; 8:45 am]

BILLING CODE 6210-01-P